DEPARTMENT OF HOMELAND SECURITY

Coast Guard

33 CFR Part 165

[Docket Number USCG-2025-0643]

RIN 1625-AA00

Safety Zone; Beltway 8 Bridge Construction, Houston Ship Channel, Houston, TX

AGENCY: Coast Guard, Department of Homeland Security.

ACTION: Temporary final rule.

SUMMARY: The Coast Guard is establishing a temporary safety zone for certain navigable waters of the Houston Ship Channel around the Beltway 8 Bridge (Sam Houston Tollway Ship Channel Bridge), during bridge construction and demolition activities. The temporary safety zone is needed to protect personnel, vessels, and the marine environment from potential hazards created by constructing a new bridge. Entry of vessels or persons into this zone is prohibited unless specifically authorized by the Captain of the Port, Sector Houston-Galveston.

DATES: This rule is effective without actual notice from December 29, 2025 through March 1, 2030. For the purposes of enforcement, actual notice will be used from December 22, 2025, until December 29, 2025.

ADDRESSES: To view available documents go to https://www.regulations.gov and search for USCG-2025-0643.

FOR FURTHER INFORMATION CONTACT: If you have questions about this rule, contact Marine Science Technician Chief Petty Officer Anthony W. Booth, Sector Houston-Galveston Waterway Management Division, Coast Guard; Telephone (713) 398-5823, Email houstonwwm@uscg.mil.

SUPPLEMENTARY INFORMATION:

I. Table of Abbreviations

BNM Broadcast Notice to Mariners

CFR Code of Federal Regulations

CG Coast Guard

COTP Captain of the Port

DHS Department of Homeland Security

FR Federal Register

LNM Local Notice to Mariners

NPRM Notice of proposed rulemaking

§ Section

U.S.C. United States Code

VTS Vessel Traffic Service

II. Background and Authority

On July 24, 2025, construction of the new Beltway 8 Bridge (Sam Houston Tollway Ship Channel Bridge) started over the navigable waters of the Houston Ship Channel. The Coast Guard previously published a short-term temporary safety zone to cover the initial phase of this construction, which covers only a small area along the north and south shorelines around the bridge (90 FR 35437, July 28, 2025). The Coast Guard also published a notice of proposed rulemaking (NPRM) to establish a long-term temporary safety zone for this project (90 FR 43950, September 11, 2025). In that NPRM, we stated why we issued the NPRM and invited comments on our proposed regulatory action.

Under the authority in 46 U.S.C. 70034, the COTP has determined that this rule is necessary to protect personnel, vessels, and the marine environment from potential hazards associated with this bridge demolition and construction project. Hazards associated with this project include falling construction equipment, materials, or other debris. No vessel or person will be permitted to enter the safety zone without obtaining permission from the COTP or their designated representative during periods of enforcement.

The Coast Guard finds that under 5 U.S.C. 553(d)(3), good cause exists for making this rule effective less than 30 days after publication in the Federal Register because it is impracticable and contrary to the public interest. Construction for this project has begun, impacts to the waterway are on-going, and the previously established short-term safety zone regulation has expired. Therefore, this zone must be established immediately to protect personnel, vessels, and the marine environment.

III. Discussion of Comments and the Rule

During the comment period that ended on October 14, 2025, we received one comment. The comment supported the safety zone and encouraged the Coast Guard to elaborate on timing for closure of the federal channel to improve coordination and to assist affected users with preparation for the closure. Due to the length of the project and complexity and uncertainty regarding the project schedule, the Coast Guard is unable to provide this detailed information at this time. However, the Coast Guard will work closely with the project managers to ensure the public and waterway users are notified well in advance of any closure that will prohibit vessel navigation on the waterway. The Coast Guard will provide advance notice to the public through Broadcast Notices to Mariners (BNMs), Local Notices to Mariners (LNMs), and the Vessel Traffic Service (VTS).

The Coast Guard is also making two clarifying changes to the regulatory text. In paragraph (c)(1), the phrase “while overhead bridge construction or demolition activities are occurring” has been deleted. Also in paragraph (d), the sentence “[t]hat date should include some margin for error in case of delays[,]” was also deleted. Although not requested or commented upon, the Coast Guard believes these changes in the regulatory text will prevent potential confusion regarding times when the safety zone is activated. As written now, the regulatory text clearly states that Coast Guard will provide advance notice to the public of the specific enforcement times and areas within the zone, which will depend on construction or demolition activities. There are no other changes in the regulatory text of this rule from the proposed rule in the NPRM.

This rule establishes a safety zone from December 22, 2025 through March 1, 2030. That date should include some margin for error in case of delays. Specific enforcement times and areas within the zone will depend on construction or demolition activities. The safety zone covers all navigable waters within the area encompassed by a line connecting the following points on the north and south shore of the Houston Ship Channel around the Beltway 8 Bridge (Sam Houston Tollway Ship Channel Bridge): Point 1 is the southeast corner at 29°44.033′ N 95°8.733′ W; thence west to Point 2 at 29°44.100′ N 95°8.833′ W; thence north to Point 3 at 29°44.267′ N 95°8.817′ W; thence east to Point 4 at 29°44.267′ N 95°8.717′ W; thence south returning to Point 1. No vessel or person is permitted to enter the safety zone without obtaining permission from the COTP or their designated representative.

IV. Regulatory Analyses

We developed this rule after considering numerous statutes and Executive orders related to rulemaking. Below we summarize our analyses based on a number of these statutes and Executive orders.

A. Impact on Small Entities

The Coast Guard certifies that, although some small entities may intend to transit the safety zone above, this rule will not have a significant economic impact on a substantial number of small entities, as mandated by the Regulatory Flexibility Act of 1980, 5 U.S.C. 601-612 for the following reasons. During the times of overhead construction outside of the federal channel, vessels will still be allowed to transit under the bridge only within the federal channel. The channel will be closed for a short period when the construction or demolition is actively occurring over the main federal channel, and these closures will be coordinated between stakeholders, the construction contractor and Sector Houston-Galveston. The Coast Guard will work closely with the project managers to ensure the public and waterway users are notified well in advance of any closure that will prohibit vessel navigation on the main federal channel. While this zone will be in effect for several years, the Coast Guard (CG) anticipates that the main federal channel will remain open for the majority of the effective period.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247).

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; DHS Delegation No. 00170.1, Revision No. 01.4.

2. Add § 165.T08-0643 to read as follows:

§ 165.T08-0643 Safety Zone; Beltway 8 Bridge Construction, Houston Ship Channel, Houston, TX.

(a) Location. The following area is a safety zone: All navigable waters within the area encompassed by a line connecting the following points on the north and south shore of the Houston Ship Channel around the Beltway 8 Bridge (Sam Houston Tollway Ship Channel Bridge): Point 1 is the southeast corner at 29°44.033′ N 95°8.733′ W; thence west to Point 2 at 29°44.100′ N 95°8.833′ W; thence north to Point 3 at 29°44.267′ N 95°8.817′ W; thence east to Point 4 at 29°44.267′ N 95°8.717′ W; thence south returning to Point 1.

(b) Definitions. As used in this section, designated representative means a Coast Guard Patrol Commander, including a Coast Guard coxswain, petty officer, or other officer operating a Coast Guard vessel and a Federal, State, and local officer designated by or assisting the Captain of the Port Houston-Galveston (COTP) in the enforcement of the safety zone.

(c) Regulations. (1) Under the general safety zone regulations in subpart C of this part, you may not enter the safety zone described in paragraph (a) of this section, unless authorized by the COTP or the COTP's designated representative.

(2) Persons or vessels seeking to enter the safety zone must request permission from the COTP on VHF-FM channel 16 or by telephone at 866-539-8114. Those in the safety zone must comply with all lawful orders or directions given to them by the COTP or the COTP's designated representative.

(d) Enforcement period. The zone will be effective until the project ends, estimated completion date of March 1, 2030. Specific enforcement times and areas within the zone will depend on construction or demolition activities, and the Coast Guard will provide advance notice to the public through BNMs, LNMs, and the VTS.

Nicole D. Rodriguez,
Captain, U.S. Coast Guard, Captain of the Port Sector Houston-Galveston, Texas.

[FR Doc. 2025-23860 Filed 12-23-25; 8:45 am]

BILLING CODE 9110-04-P